DEPARTMENT OF LABOR

Office of the Worker's Compensation Programs

Proposed New Information Collection; Form CA-21, Attending Physician's Certification of Continuing Workers' Compensation Disability (OMB Control No. 1240-0NEW)

AGENCY: Office of Workers' Compensation, Division of Federal Employees' Longshore and Harbor Workers' Compensation, (OWCP/DFELHWC), Labor.

ACTION: Request for public comments.

SUMMARY: The Department of Labor, as part of its continuing effort to reduce paperwork and respondent burden, conducts a pre-clearance request for comment to provide the general public and Federal agencies with an opportunity to comment on proposed collections of information in accordance with the Paperwork Reduction Act of 1995. This request helps to ensure that: requested data can be provided in the desired format; reporting burden (time and financial resources) is minimized; collection instruments are clearly understood; and the impact of collection requirements on respondents can be properly assessed. Currently, OWCP/DFELHWC is soliciting comments on the new information collection for Attending Physician's Certification of Continuing Workers' Compensation Disability, CA-21.

DATES: All comments must be received on or before August 19, 2024.

ADDRESSES: You may submit comment as follows. Please note that late, untimely filed comments will not be considered.

Electronic Submissions: Submit electronic comments in the following way:

• Federal eRulemaking Portal: https://www.regulations.gov. Follow the instructions for submitting comments for WCPO-2024-0012. Comments submitted electronically, including attachments, to https://www.regulations.gov will be posted to the docket, with no changes. Because your comment will be made public, you are responsible for ensuring that your comment does not include any confidential information that you or a third party may not wish to be posted, such as your or anyone else's Social Security number or confidential business information.

• If your comment includes confidential information that you do not wish to be made available to the public, submit the comment as a written/paper submission.

Written/Paper Submissions: Submit written/paper submissions in the following way:

• Mail/Hand Delivery: Mail or visit U.S. DOL-Office of Workers' Compensation Programs, OWCP, Room S3323, 200 Constitution Avenue NW, Washington, DC 20210;

• OWCP will post your comment as well as any attachments, except for information submitted and marked as confidential, in the docket at https://www.regulations.gov.

FOR FURTHER INFORMATION CONTACT: Anjanette Suggs, Office of Workers' Compensation Programs, OWCP, at suggs.anjanette@dol.gov (email); (202) 354-9660 (voice).

SUPPLEMENTARY INFORMATION:

I. Background

The Office of Worker's Compensation Programs (OWCP) administers the Federal Employees' Compensation Act (FECA), which provides for medical and compensation benefits for work related injuries or disease from federal employment. 5 U.S.C. 8149, Congress gives the Secretary of Labor authority to prescribe the rules and regulations necessary for the administration and enforcement of the FECA.

The relevant statutory provision 5 U.S.C. 8103, Medical services and initial medical and other benefits, which reads as follows:

(a) The United States shall furnish to an employee who is injured while in the performance of duty, the services, appliances, and supplies prescribed or recommended by a qualified physician, which the Secretary of Labor considers likely to cure, give relief, reduce the degree or the period of disability, or aid in lessening the amount of the monthly compensation. These services, appliances, and supplies shall be furnished—

(1) whether or not disability has arisen;

(2) notwithstanding that the employee has accepted or is entitled to receive benefits under subchapter III of chapter 83 of this title or another retirement system for employees of the Government; and

(3) by or on the order of United States medical officers and hospitals, or, at the employee's option, by or on the order of physicians and hospitals designated or approved by the Secretary. The employee may initially select a physician to provide medical services, appliances, and supplies, in accordance with such regulations and instructions as the Secretary considers necessary, and may be furnished necessary and reasonable transportation and expenses incident to the securing of such services, appliances, and supplies. These expenses, when authorized or approved by the Secretary, shall be paid from the Employees' Compensation Fund.

(b) The Secretary, under such limitations or conditions as he considers necessary, may authorize the employing agencies to provide for the initial furnishing of medical and other benefits under this section. The Secretary may certify vouchers for these expenses out of the Employees' Compensation Fund when the immediate superior of the employee certifies that the expense was incurred in respect to an injury which was accepted by the employing agency as probably compensable under this subchapter. The Secretary shall prescribe the form and content of the certificate.

In accordance with 20 CFR 10.330, OWCP requires each employee who is receiving benefits to provide a medical report from their attending physician. Per 20 CFR 10.332, OWCP will request the attending physician to provide a report at periodic intervals in all cases requiring hospital treatment or prolonged care. The attending physician will be asked to describe the continuing need for medical treatment for the accepted condition, prognosis, description of work tolerance limitations, and the physician's opinion on causal relationship between the diagnosed condition and the employee's work factors.

Further, 20 CFR 10.501 states:

(a) The employee is responsible for providing sufficient medical evidence to justify payment of any compensation sought.

(1) To support payment of continuing compensation where an employee has been found entitled to periodic benefits, narrative medical evidence must be submitted whenever OWCP requests it but ordinarily not less than once a year and with any filing of a form CA-1032. It must contain a physician's rationalized opinion as to whether the specific period of alleged disability is causally related to the employee's accepted injury or illness.

(2) For those employees with more serious conditions not likely to improve and for employees over the age of 65, OWCP may require less frequent documentation, but ordinarily not less than once every three years.

References: 5 U.S.C. 8149, 5 U.S.C. 8103, 20 CFR 10.330, 20 CFR 10.332, and 20 CFR. 10.501.

See: https://www.dol.gov/owcp/dfec/regs/statutes/feca.htm#)

See: eCFR: 20 CFR part 10—Claims for Compensation Under the Federal Employees' Compensation Act, as Amended

II. Desired Focus of Comments

OWCP is soliciting comments concerning the proposed information collection related to the Attending Physician's Certification of Continuing Workers' Compensation Disability. OWCP is particularly interested in comments that:

• Evaluate whether the collection of information is necessary for the proper performance of the functions of the Agency, including whether the information has practical utility;

• Evaluate the accuracy of OWCP's estimate of the burden related to the information collection, including the validity of the methodology and assumptions used in the estimate;

• Suggest methods to enhance the quality, utility, and clarity of the information to be collected; and

• Minimize the burden of the information collection on those who are to respond, including through the use of appropriate automated, electronic, mechanical, or other technological collection techniques or other forms of information technology, e.g., permitting electronic submission of responses.

Background documents related to this information collection request are available at https://regulations.gov and at DOL-OWCP located at U.S. Department of Labor, Office of Workers' Compensation Programs, Room S3323, 200 Constitution Avenue NW, Washington, DC 20210. Questions about the information collection requirements may be directed to the person listed in the FOR FURTHER INFORMATION section of this notice.

III. Current Actions

This information collection request concerns Attending Physician's Certification of Continuing Workers' Compensation Disability, CA-21.

Type of Review: New collection.

Agency: DOL—Office of Workers' Compensation Programs.

OMB Number: 1240-0NEW.

Affected Public: Private Sector—Businesses or other for-profits.

Number of Respondents: 33,372.

Frequency: On Occasion.

Number of Responses: 33,372.

Annual Burden Hours: 2,670 hours.

Annual Respondent or Recordkeeper Cost: $25,029.00.

OWCP Forms: OWCP Form CA-21, Attending Physician's Certification of Continuing Workers' Compensation Disability.

Comments submitted in response to this notice will be summarized in the request for Office of Management and Budget approval of the proposed information collection request; they will become a matter of public record and will be available at https://www.reginfo.gov.

Anjanette Suggs,
Certifying Officer.

[FR Doc. 2024-13437 Filed 6-18-24; 8:45 am]

BILLING CODE 4510-CH-P